DEPARTMENT OF COMMERCE

National Oceanic and Atmospheric Administration

RIN 0648-XF201

North Pacific Fishery Management Council; Public Meeting

AGENCY: National Marine Fisheries Service (NMFS), National Oceanic and Atmospheric Administration (NOAA), Commerce.

ACTION: Notice of online public meeting.

SUMMARY: The EFH Subcommittee of the North Pacific Fishery Management Council (Council) Crab Plan Team will meet on March 7, 2017 via Internet.

DATES: The meeting will be held on Tuesday, March 7, 2017, from 1 p.m. to 3 p.m.

ADDRESSES: The meeting will be held online. The link for the meeting is https://npfmc.adobeconnect.com/efh_cpt_2017-03-07/. Connection information is also posted on the NPFMC Web site www.npfmc.org. Anyone without Internet access may participate by visiting the Council office.

Council address: North Pacific Fishery Management Council, 605 W. 4th Ave., Suite 306, Anchorage, AK 99501-2252; telephone: (907) 271-2809.

FOR FURTHER INFORMATION CONTACT: Jim Armstrong, Council staff; telephone: (907) 271-2809.

SUPPLEMENTARY INFORMATION:

Agenda

Tuesday, March 7, 2017 at 1 p.m. AKST

The Crab Plan Team's EFH Subcommittee will review assessment author recommendations based on their application of the Council-approved fishing effects evaluation methodology. The subcommittee will discuss the author recommendations and develop CPT recommendations that will be presented to the SSC and Council at their April 2017 meeting in Anchorage, AK. Meeting materials will be made available on the Council Web site (www.npfmc.org) prior to the meeting.

Special Accommodations

The meeting is physically accessible to people with disabilities. Requests for sign language interpretation or other auxiliary aids should be directed to Shannon Gleason at (907) 271-2809 at least 7 working days prior to the meeting date.

Dated: January 27, 2017.
Tracey L. Thompson,
Acting Deputy Director, Office of Sustainable Fisheries, National Marine Fisheries Service.

[FR Doc. 2017-02111 Filed 1-31-17; 8:45 am]

BILLING CODE 3510-22-P